DEPARTMENT OF THE INTERIOR

Bureau of Land Management

[LLCA930000.L58740000.EU0000.LXSS018B0000; CACA 050670]

Notice of Realty Action: Proposed Direct Sale of Public Lands in Riverside County, CA

AGENCY: Bureau of Land Management, Interior.

ACTION: Notice of realty action.

SUMMARY: The Bureau of Land Management (BLM), Palm Springs—South Coast Field Office, proposes to sell an 80-acre parcel of public land in Riverside County, California to Cocopah Nurseries, Inc. for the appraised fair market value of $77,000.

DATES: Comments regarding the proposed sale must be received by the BLM on or before July 6, 2010.

ADDRESSES: Written comments concerning the proposed sale should be sent to the Field Manager, BLM, Palm Springs Field Office, 1201 Bird Center Drive, Palm Springs, California 92262.

FOR FURTHER INFORMATION CONTACT: Della Asuagbor, Realty Specialist, BLM, Palm Springs Field Office, 1201 Bird Center Drive, Palm Springs, California 92262, by phone: (760) 833-7148, or by e-mail Della_Asuagbor@blm.gov.

SUPPLEMENTARY INFORMATION: The following described public land is being proposed for direct sale to Cocopah Nurseries, Inc., in accordance with Sections 203 and 209 of the Federal Land Policy and Management Act of 1976 (FLPMA), as amended (43 U.S.C. 1713), at not less than the appraised fair market value:

San Bernardino Meridian

T. 5 S., R. 17 E.,

Sec. 30, S½NE¼.

The area described contains 80 acres in Riverside County.

The appraised fair market value is $77,000. The public land is identified as suitable for disposal in the BLM's 1980 California Desert Conservation Area Plan, as amended, and is not needed for any other Federal purpose.

The BLM considers the public land suitable for sale because it is a small isolated parcel of land which lacks legal access. The BLM is proposing a direct sale to Cocopah Nurseries, Inc. because the public land is completely surrounded by private lands owned by Cocopah Nurseries, Inc. A competitive sale is therefore not appropriate and the public interest would be best served by a direct sale. The land identified for sale is considered to have no known mineral value. The BLM proposes that conveyance of the Federal mineral interests would occur simultaneously with the sale of the land. Cocopah Nurseries, Inc. would be required to pay a $50 nonrefundable filing fee for conveyance of the Federal mineral interests.

On May 21, 2010, the above described land will be segregated from all forms of appropriation under the public land laws, including the mining laws, except the sale provisions of the FLPMA. Until completion of the sale, the BLM will no longer accept land use applications affecting the identified public lands, except application for the amendment of previously filed right-of-way applications or existing authorizations to increase the term of the grants in accordance with 43 CFR 2802.15 and 2886.15. The temporary segregation will terminate upon issuance of a patent, publication in the Federal Register of a termination of the segregation, or May 21, 2012, whichever occurs first, unless extended by the BLM State Director in accordance with 43 CFR 2711.1-2(d) prior to the termination date. The land will not be sold until at least 60 days after the date of publication of this notice in the Federal Register. Any patent issued would contain the following terms, conditions, and reservations:

a. A reservation of a right-of-way to the United States for ditches and canals constructed by authority of the United States under the Act of August 30, 1890 (43 U.S.C 945);

b. A condition that the conveyance be subject to all valid existing rights of record;

c. A notice and indemnification statement under the Comprehensive Environmental Response, Compensation, and Liability Act (42 U.S.C. 9620(W)), indemnifying and holding the United States harmless from any release of hazardous materials that may have occurred; and

d. Additional terms and conditions that the authorized officer deems appropriate. Detailed information concerning the proposed land sale including the appraisal, planning and environmental documents, and a mineral report are available for review at the location identified in the “ADDRESSES” section above.

Public comments regarding the proposed sale may be submitted in writing to the attention of the BLM Palm Springs Field Manager (see ADDRESSES section above) on or before July 6, 2010. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior. Before including your address, phone number, e-mail address, or other personal identifying information in your comment, be advised that your entire comment—including your personal identifying information—may be made publicly available at any time. While you can ask us in your comment to withhold from public review your personal identifying information, we cannot guarantee that we will be able to do so.

(Authority: 43 CFR 2711.1-2(a) and (c))

Karla Norris,
Assistant Deputy State Director for Natural Resources.

[FR Doc. 2010-12168 Filed 5-20-10; 8:45 am]

BILLING CODE 4310-40-P